DEPARTMENT OF TRANSPORTATION

Federal Aviation Administration

Twenty-Sixth Meeting: RTCA Special Committee (216) Aeronautical Systems Security

AGENCY: Federal Aviation Administration (FAA), Department of Transportation (DOT).

ACTION: Notice of Twenty-Sixth RTCA Special Committee 216 Meeting.

SUMMARY: The FAA is issuing this notice to advise the public of the Twenty-Sixth RTCA Special Committee 216 meeting.

DATES: The meeting will be held May 3-5, 2016 from 9:00 a.m.-5:00 p.m.

ADDRESSES: The meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 216. The agenda will include the following:

Tuesday, May 3, 2016 (9:00 a.m.-5:00 p.m.)

1. Welcome and Administrative Remarks

2. Introductions

3. Agenda Review

4. Meeting-Minutes Review

5. Reminder RTCA Overview Presentation

6. SC-216 New Scope and Terms of Reference review

7. Overview of WG-72

8. Overview of DO-356, Airworthiness Security Methods and Considerations

9. SC-216 Structure and Organization of Work

10. Proposed Schedule

11. Date, Place and Time of Next Meeting

12. New Business

13. Adjourn Plenary

Wednesday, May 4, 2016 (9:00 a.m.-5:00 p.m.)

1. Continuation of Plenary or Working Group Sessions

Thursday, May 5, 2016 (9:00 a.m.-12:00 p.m.)

1. Continuation of Plenary or Working Group Sessions

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on April 1, 2016.
Latasha Robinson,
Management & Program Analyst, NextGen, Enterprise Support Services Division, Federal Aviation Administration.

[FR Doc. 2016-07916 Filed 4-5-16; 8:45 am]

BILLING CODE 4910-13-P